DEPARTMENT OF ENERGY

Federal Energy Regulatory Commission

[Docket Nos. CP19-509-000; CP19-509-001]

Texas Eastern Transmission, LP; Notice of Schedule for Environmental Review of the Marshall County Mine Panels 19e and 20e Project

On September 4, 2019, Texas Eastern Transmission, LP (Texas Eastern) filed an application in Docket No. CP19-509-000 requesting a Certificate of Public Convenience and Necessity pursuant to Section 7(c) of the Natural Gas Act to construct and operate certain natural gas pipeline facilities in Marshal County, West Virginia. On December 19, 2019, Texas Eastern amended its application in Docket No. CP19-509-001. The proposed project, known as the Marshal County Mine Panels 19E and 20E Project (Project), would ensure safe and efficient operation of existing Texas Eastern pipeline facilities for the duration of planned longwall mining activities.

On September 17, 2019 and January 6, 2020, the Federal Energy Regulatory Commission (Commission or FERC) issued two separate Notice of Applications for the Project as amended. Among other things, the notices alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—March 27, 2020

90-day Federal Authorization Decision Deadline—June 25, 2020

If a schedule change becomes necessary, additional notice will be provided so that the relevant agencies are kept informed of the Project's progress.

Project Description

Texas Eastern proposes to excavate, elevate, and replace certain sections of four natural gas transmission pipelines due to longwall mining activities in Marshall County, West Virginia. The Project would allow for safe and efficient operation of Texas Eastern's existing pipeline facilities for the duration of the longwall mining activities planned by Marshall County Coal Company in the area beneath Texas Eastern's pipelines. The four mainline segments will remain in-service and be elevated using sandbags and skids for about two years until the longwall mining activities have completed and any potential ground subsidence has settled.

Background

On October 1, 2019, the Commission issued a Notice of Intent to Prepare an Environmental Assessment for the Proposed Marshall County Mine Panel 19E Project and Request for Comments on Environmental Issues (NOI). The Commission issued an additional NOI on January 13, 2020, following the Texas Eastern's Marshal County Mine Panel 20E amendment application. The NOIs were sent to affected landowners; owners of minerals rights; federal, state, and local government agencies; elected officials; Native American tribes; other interested parties; and local libraries and newspapers. Comment letters were received from the Osage Nation Historic Preservation Office and the U.S. Army Corps of Engineers in response to the NOIs. The primary issues raised in the comments are impacts on streams and wetlands and permitting requirements. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP19-501), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: February 13, 2020.
Nathaniel J. Davis, Sr.,
Deputy Secretary.

[FR Doc. 2020-03388 Filed 2-19-20; 8:45 am]

BILLING CODE 6717-01-P